DEPARTMENT OF TRANSPORTATION

Federal Transit Administration

Section 5309 Bus and Bus Facilities Livability Initiative Program Grants

AGENCY: Federal Transit Administration (FTA), DOT. Discretionary Bus and Bus Facilities Program.

ACTION: Notice of Availability of FTA Bus and Bus Facilities Livability Initiative Program Funds: Solicitation of Project Proposals.

SUMMARY: The Federal Transit Administration (FTA) announces the availability of discretionary Section 5309 Bus and Bus Facilities grant funds in support of the Department of Transportation's Livability Initiative (“Livability Bus Program”). The Livability Bus program will be funded using $150 million in unallocated Discretionary Bus and Bus Facilities Program funds, authorized by 49 U.S.C. 5309(b) of the Safe, Accountable, Flexible, Efficient, Transportation Equity Act: A Legacy For Users (SAFETEA-LU), Public Law 109-59, August 10, 2005. FTA may use additional Bus and Bus Facilities funding that becomes available for discretionary allocation to further support this initiative.

The Livability Bus Program makes funds available to public transit providers to finance capital projects to replace, rehabilitate, and purchase buses and related equipment and to construct bus-related facilities, including programs of bus and bus-related projects for assistance to subrecipients that are public agencies, private companies engaged in public transportation, or private non-profit organizations. This notice includes priorities established by FTA for these discretionary funds, the criteria FTA will use to identify meritorious projects for funding, and describes how to apply.

This announcement is available on the FTA Web site at: http://www.fta.dot.gov. FTA will announce final selections on the Web site and in the Federal Register. A synopsis of this announcement will be posted in the FIND module of the government-wide electronic grants Web site at http://www.grants.gov. Proposals may be submitted to FTA electronically at buslivability@dot.gov or through the GRANTS.GOV APPLY function. Those who apply via e-mail at buslivability@dot.gov should receive a confirmation e-mail within two business days.

DATES: Complete proposals for the discretionary Bus Livability Program grants must be submitted by February 8, 2010. The proposals must be submitted electronically through the GRANTS.GOV Web site or via e-mail at buslivability@dot.gov. Anyone intending to apply electronically through GRANTS.GOV should initiate the process of registering on the GRANTS.GOV site immediately to ensure completion of registration before the deadline for submission.

ADDRESSES: Proposals may be submitted to FTA electronically at buslivability@dot.gov or through the GRANTS.GOV APPLY function. Those who apply via e-mail at buslivability@dot.gov should receive a confirmation e-mail within 2 business days.

FOR FURTHER INFORMATION CONTACT: Contact the appropriate FTA Regional Administrator (Appendix) for proposal-specific information and issues. For general program information, contact Kimberly Sledge, Office of Transit Programs, (202) 366-2053, e-mail: kimberly.sledge@dot.gov or Henrika Buchanan-Smith, (202)366-4020, e-mail: henrika.buchanan-smith@dot.gov. A TDD is available at 1-800-877-8339 (TDD/FIRS).

SUPPLEMENTARY INFORMATION:

Table of Contents

I. Funding Opportunity Description

II. Award Information

III. Eligibility Information

IV. Application and Submission Information

V. Application Review, Selection, and Notification

VI. Award Administration

VII. Agency Contacts

Appendix FTA Regional Offices

I. Funding Opportunity Description

A. Authority

The program is authorized under 49 U.S.C. Section 5309(b) as amended by Section 3011 of SAFETEA-LU.

“The Secretary may make grants under this section to assist State and local governmental authorities in financing—* * *

(3) capital projects to replace, rehabilitate, and purchase buses and related equipment and to construct bus-related facilities, including programs of bus and bus-related projects for assistance to subrecipients that are public agencies, private companies engaged in public transportation, or private non-profit organizations.”

B. Background

FTA has long fostered livable communities and sustainable development through its various transit programs and activities. Public transportation supports the development of communities, providing effective and reliable transportation alternatives that increase access to jobs, health and social services, entertainment, educational opportunities, and other activities of daily life, while also improving mobility within and among these communities. Through various initiatives and legislative changes over the last fifteen years, FTA has allowed and encouraged projects that help integrate transit into a community through neighborhood improvements and enhancements to transit facilities or services, or make improvements to areas adjacent to public transit facilities that may facilitate mobility demands of transit users or support other infrastructure investments that enhance the use of transit for the community.

On June 16, 2009, U.S. Department of Transportation (DOT) Secretary Ray LaHood, U.S. Department of Housing and Urban Development (HUD) Secretary Shaun Donovan, and U.S. Environmental Protection Agency (EPA) Administrator Lisa Jackson announced a new partnership to help American families in all communities—rural, suburban and urban—gain better access to affordable housing, more transportation options, and lower transportation costs.

DOT, HUD, and EPA created a high-level interagency partnership to better coordinate federal transportation, environmental protection, and housing investments. The Livability Bus Program funding will be awarded to projects that demonstrate these livability principles (see Section of this Preamble C.).

Approximately $150 million in unallocated Section 5309 Bus and Bus Facilities Program funds are available under this notice. By using these available funds, FTA and DOT can support tangible livability improvements within existing programs while demonstrating the feasibility and value of such improvements. These demonstrations can provide a sound basis for advancing greater investments in the future. In addition, the program builds on the momentum generated by the American Recovery and Reinvestment Act 2009 and can help inform Administration and Congressional decision makers on guidance needs for reauthorization.

C. Purpose

Improving mobility and shaping America's future by ensuring that the transportation system is accessible, integrated, and efficient, while offering flexibility of choices is a key strategic goal of the DOT. FTA is committed to creating livable communities that improve the quality of life for all Americans. Public transportation provides transportation options that connects communities and fosters sustainability and the development of urban and rural land use. Through the Livability Bus Program grants, FTA will invest in projects that fulfill the six livability principles that serve as the foundation for the DOT-HUD-EPA Partnership for Sustainable Communities:

1. Provide more transportation choices: Develop safe, reliable, and economical transportation choices to decrease household transportation costs, reduce our nation's dependence on foreign oil, improve air quality, reduce greenhouse gas emissions and promote public health.

2. Promote equitable, affordable housing: Expand location- and energy-efficient housing choices for people of all ages, incomes, races and ethnicities to increase mobility and lower the combined cost of housing and transportation.

3. Enhance economic competitiveness: Improve economic competitiveness through reliable and timely access to employment centers, educational opportunities, services and other basic needs by workers as well as expanded business access to markets.

4. Support existing communities: Target federal funding toward existing communities—through such strategies as transit-oriented, mixed-use development and land recycling—to increase community revitalization, improve the efficiency of public works investments, and safeguard rural landscapes.

5. Coordinate policies and leverage investment: Align policies and funding to remove barriers to collaboration, leverage funding and increase the accountability and effectiveness of all levels of government to plan for future growth, including making smart energy choices such as locally generated renewable energy.

6. Value communities and neighborhoods: Enhance the unique characteristics of all communities by investing in healthy, safe and walkable neighborhoods—rural, urban or suburban.

FTA will evaluate proposals and assess a project's ability to advance local economic development goals, improve mobility for all citizens, create partnerships that result in the integration of transportation and land-use decision making and result in environmental benefits. Additionally, many rural areas are fighting to preserve their way of life by limiting urban sprawl and protecting valuable agricultural lands. Often these communities have seen jobs and businesses leave for larger communities and need assistance preserving and reinvigorating the traditional rural town center where locals can find the grocery, doctor, hardware store, family restaurant and town hall in easy walking distance from one another. FTA is committed to funding a mix of projects that include projects that demonstrate livability principles in rural areas including projects that provide access to jobs, medical services and other necessities in rural areas and that support the independence of the elderly and individuals with disabilities.

II. Award Information

Federal transit funds are available to State or Local governmental authorities as recipients and other public transportation providers as subrecipients at up to 80 percent of the project cost requiring a 20% local match. There is no floor or upper limit for any single grant under this program; however, FTA intends to fund as many meritorious projects as possible.

Consistent with 49 U.S.C. 5309(m)(8), the Secretary shall consider the age and condition of buses, bus fleets, related equipment, and bus-related facilities of applicants in its award of Livability Bus grants. And, in addition, FTA will consider geographical diversity in making final funding decisions.

Eligibility Information

A. Eligible Applicants

Eligible applicants under this program are Direct Recipients under the Section 5307 Urbanized Area Formula program, States, and Indian Tribes. Proposals for funding eligible projects in rural (nonurbanized) areas must be submitted as part of a consolidated State application with the exception of nonurbanized projects to Indian Tribes. Tribes, States, and Direct Recipients may also submit consolidated proposals for projects in urbanized areas.

Proposals may contain projects to be implemented by the Recipient or its subrecipients. Eligible subrecipients include public agencies, private non-profit organizations, and private providers engaged in public transportation.

B. Eligible Expenses

SAFETEA-LU grants authority to the Secretary to make grants to assist State and local governmental authorities in financing capital projects to replace, rehabilitate, and purchase buses and related equipment and to construct bus-related facilities, including programs of bus and bus-related projects for assistance to subrecipients that are public agencies, private companies engaged in public transportation, or private non-profit organizations.

Projects eligible for funding under the Livability Bus program are capital projects such as:

Purchase and rehabilitation of buses and vans, bus related equipment (including ITS, fare equipment, communication devices), construction and rehabilitation of bus-related facilities (including administrative, maintenance, transfer, and intermodal facilities, including facilities consistent with FTA's Joint Development policy which is available at http://www.fta.dot.gov.

Funds made available under this program may not be used to fund operating expenses, preventive maintenance, or any of the other expanded capital eligibility items (for example, security drills, debt service reserve, mobility management.) Funds also may not be used to reimburse projects that have incurred previous expenses absent evidence that FTA had issued a Letter of No Prejudice (LONP) for the project before the costs being incurred. There is no blanket pre-award authority for projects to be funded under this announcement before their identification in the Federal Register of selected projects.

C. Cost Sharing

Costs will be shared at the following ratio: 80 Percent FTA/20 Percent local contribution, unless the grantee requests a lower Federal share. FTA will not approve deferred local share under this program.

IV. Application and Submission Information

A. Proposal Submission Process

Project proposals must be submitted electronically through http://www.grants.gov or by e-mail electronically at buslivability@dot.gov. Submission via the bus livability e-mail is preferred. Mail and fax submissions will not be accepted except for supplemental information that cannot be sent electronically.

An applicant may propose a project that would take more than one year to complete, which includes expending a single year of Livability Bus program grant funds over multiple years. The project would, however, need to be ready to begin upon receiving a grant and need to be completed in a reasonable period of time, as evaluated on a case by case basis. In sum, the period of performance of the award is separate from the year of funds of the award.

B. Application Content

1. Applicant Information

This provides basic sponsor identifying information, including: (a) Applicant name, and FTA recipient ID number, (b) Contact information for notification of project selection (including contact name, title, address, e-mail, fax and phone number, (c) description of services provided by the agency including areas served, (d) existing fleet and employee information, and (e) a description of the agency's technical, legal, and financial capacity to implement the proposed project. For applicants applying through GRANTS.GOV, some of this information is included in Standard Form 424.

2. Project Information

Every proposal must:

a. Describe the project to be funded and include with the proposal any applicable supporting documentation, such as: Information on the age of the current fleet, age of facility to be rehabilitated or replaced, the Metropolitan Planning Organization (MPO) concurrence letters, population forecasts, ridership information, etc.

b. Address each of the evaluation criteria separately, providing evidence that demonstrates how the project responds to each criterion.

c. Provide a line item budget for the project, with enough detail to describe the various key components of the project.

d. Provide the Federal amount requested.

e. Document the matching funds, including amount and source of the match, demonstrating strong local and private sector financial participation in the project. Provide support documentation including audited financial statements, bond-ratings, and documents supporting the commitment of non-federal funding to the project, or a timeframe upon which those commitments would be made.

f. Provide a project time-line, including significant milestones such as the date anticipated to issue a Request for Proposals for vehicles, or contract for purchase of vehicle(s), and actual or expected delivery date of vehicles, or notice of request for proposal and notice to proceed for capital construction/rehabilitation projects.

C. Submission Dates and Times

Complete proposals for the Bus Livability Program must be submitted to buslivability@dot.gov February 8, 2010 or submitted electronically through the GRANTS.GOV Web site by the same date. Applicants planning to apply through GRANTS.GOV are encouraged to begin the process of registration on the GRANTS.GOV site well in advance of the submission deadline. Registration is a multi-step process, which may take several weeks to complete before an application can be submitted. FTA will announce grant selections when the competitive selection process is complete.

D. Funding Restrictions

Only proposals from eligible recipients for eligible activities will be considered for funding (see Section III of this Preamble). Due to funding limitations, applicants that are selected for funding may receive less than the amount originally requested.

E. Other Submission Requirements

Applicants should submit 3 copies of any supplemental information that cannot be submitted electronically to the appropriate regional office. Supplemental information submitted in hardcopy must be postmarked by February 8, 2010.

V. Application Review, Selection, and Notification

A. Project Evaluation Criteria

Projects will be evaluated according to the following criteria. Each applicant is encouraged to demonstrate the responsiveness of a project to any and all of the selection criteria with the most relevant information that the applicant can provide, regardless of whether such information has been specifically requested, or identified, in this notice. FTA will assess the extent to which a project addresses the criteria below and produces a livability or sustainability outcome.

1. Demonstrated Need for Resources: FTA will evaluate each project to determine its need for resources. This determination will be made by examining the proposal to determine if:

a. The project represents a one-time or periodic need that cannot

reasonably be funded from FTA program formula allocations or

State and/or local revenues.

b. The project or applicant did not receive sufficient Federal funding

in previous years.

c. The project will have a significant impact on service delivery.

2. Planning and prioritization at local/regional level: FTA will examine each Bus Livability project proposal for consistency with the areas planning documents and local priorities. This examination will involve assessing whether:

a. The project is consistent with the transit priorities identified in the long range plan and/or contingency/illustrative projects.

b. The MPO endorses the project, if in a UZA, and the State, if for a rural area.

c. Local support is demonstrated by availability of local match for this and/or related projects and letters of support.

d. Capital projects are consistent with service needs of the area. Example: Vehicle expansion proposal shows evidence of the need for additional capacity.

e. If the project is multimodal in nature, the proposal demonstrates coordination with and support of other transportation modes and partners.

3. Livability: Livability investments are projects that deliver not only transportation benefits, but also are designed and planned in such a way that they have a positive impact on qualitative measures of community life. This element delivers benefits that are inherently difficult to measure. However, it is implicit to livability that its benefits are shared and therefore magnified by the number of potential users in the affected community. Therefore, descriptions of how projects enhance livability should include a description of the affected community and the scale of the project's impact. To determine whether a project improves the quality of the living and working environment of a community, FTA will qualitatively assess whether the project:

a. Will significantly enhance user mobility through the creation of more convenient transportation options for travelers;

b. The degree to which the proposed project contributes significantly to broader traveler mobility through intermodal connections, or improved connections between residential and commercial areas.

c. Will improve existing transportation choices by enhancing points of modal connectivity or, in urban areas, by reducing congestion on existing transit systems or roadways.

d. Will improve accessibility and transport services for economically disadvantaged populations, non-drivers, senior citizens, and persons with disabilities.

e. Is the result of a planning process which coordinated transportation and land-use planning decisions and encouraged community participation in the process.

4. Sustainability: In order to determine whether a project promotes a more environmentally sustainable transportation system, i.e., reducing reliance on automobile travel, improving the pedestrian and walk environment of a community, use of environmental design techniques in the planning, construction, and operation of the project, FTA will assess the project's ability to:

a. Improve energy efficiency or reduce energy consumption/green house gas emissions; applicants are encouraged to provide information regarding the expected use of clean or alternative sources of energy; projects that demonstrate a projected decrease in the movement of people by less energy-efficient vehicles or systems will be given priority under this factor; and

b. Maintain, protect or enhance the environment, as evidenced by environmentally friendly policies and practices utilized in the project design, construction, and operation that exceed the requirements of the National Environmental Policy Act including items such as whether the project uses a Leadership in Energy and Environmental Design (LEED)-certified design, the vehicles or facilities are rated with the energy-star, the project re-uses a brownfield, construction equipment is retrofitted with catalytic converters, the project utilizes recycled materials, the project includes elements to conserve energy, such as passive solar heating, solar panels, wind turbines, reflective roofing or paving materials, or other advanced environmental design elements such as a green roof, etc.

5. Leveraging of public and private investments.

a. Jurisdictional and Stakeholder Collaboration: To measure a project's alignment with this criterion, FTA will assess the project's involvement of non-Federal entities and the use of non-Federal funds, including the scope of involvement and share of total funding. FTA will give priority to projects that receive financial commitments from, or otherwise involve, State and local governments, other public entities, or private or nonprofit entities, including projects that engage parties that are not traditionally involved in transportation projects, such as nonprofit community groups or the private owners of real property abutting the project. FTA will assess the amount of co-investment from State, local or other non-profit sources.

b. Disciplinary Integration: To demonstrate the value of partnerships across government agencies that serve the various public service missions and to promote collaboration on the objectives outlined in this notice, FTA will give priority to projects that are supported, financially or otherwise, by non-transportation public agencies that are pursuing similar objectives. For example, FTA will give priority to transportation projects that are supported by relevant public housing or human service agencies, or transportation projects that encourage energy efficiency or improve the environment and are supported by relevant public agencies with energy or environmental missions.

6. The project is ready to implement.

a. Any required environmental work has been initiated for construction projects requiring an Environmental Assessment (EA), Environmental Impact Statement (EIS), or documented Categorical Exclusion (CE).

b. Implementation plans are ready, including initial design of facilities projects.

c. TIP/STIP can be amended (evidenced by MPO/State endorsement).

d. Local share is in place.

e. Project can be obligated and implemented quickly if selected.

f. The applicant demonstrates the ability to carry out the proposed project successfully.

Note: Applicants must have basic technical, legal, and financial capacity as a precondition of grant award. Since proposals are limited to existing FTA grantees, applicants are assumed to have that basic capacity. This criterion refers to implementation of the particular project proposed.

a. For larger capital projects, the applicant has the technical capacity to administer the project.

b. For fleet replacement and/or expansion, the acquisition is consistent with the bus fleet management plan.

c. For fleet expansion, the applicant has the operating funds to support the expanded service.

d. There are no outstanding legal, technical or financial issues with the grantee that would bring the feasibility of successful project completion into question.

e. Source of 20% local match is identified and is available for prompt project implementation if selected (no deferred local share will be allowed).

f. The grantee is in fundable status for grant making purpose.

B. Review and Selection Process

Proposals will first be screened and ranked by the appropriate FTA regional office (see Appendix). Following this initial review, meritorious proposals will be submitted for a national review process and coordinated with representatives of HUD and EPA. Proposals will be screened and ranked based on the criteria in this notice by FTA headquarters staff in consultation with the appropriate FTA regional office (see Appendix), and coordinated with representatives of HUD and EPA. Highly qualified projects will be considered for inclusion in a national list of projects that addresses the identified priorities and represents the highest and best use of the available funding. As mentioned earlier in this Preamble, the Administrator will also take into consideration geographical diversity in his final decision. The FTA Administrator will determine the final selection and amount of funding for each project. Selected projects will be announced in early 2010. FTA will publish the list of all selected projects and funding levels in the Federal Register. Regional offices will also notify successful applicants of their success and the amount of funding awarded to the project.

VI. Award Administration

A. Award Notices

FTA will announce project selections in a Federal Register Notice and will post the Federal Register Notices on the Web. FTA regional offices will contact successful applicants. FTA will award grants for the selected projects to the applicant through the FTA electronic grants management and award system, TEAM, after receipt of a complete application in TEAM. These grants will be administered and managed by the FTA regional offices in accordance with the federal requirements of the Section 5309 bus program. At the time the project selections are announced, FTA will extend pre-award authority for the selected projects. There is no blanket pre-award authority for these projects prior to announcement.

B. Administrative and National Policy Requirements

1. Grant Requirements

If selected, applicants will apply for a grant through TEAM and adhere to the customary FTA grant requirements of the Section 5309 Bus and Bus Facilities program, including those of FTA C 9300.1A Circular and C 5010.1C and S. 5333(b) labor protections. Discretionary grants greater than $500,000 will go through Congressional Notification and release process. Technical assistance regarding these requirements is available from each FTA regional office.

2. Planning

Applicants are encouraged to notify the appropriate State Departments of Transportation and MPO in areas likely to be served by the project funds made available under this program. Incorporation of funded projects in the long range plans and transportation improvement programs of States and metropolitan areas is required of all funded projects.

3. Standard Assurances

The Applicant assures that it will comply with all applicable Federal statutes, regulations, executive orders, FTA circulars, and other Federal administrative requirements in carrying out any project supported by the FTA grant. The Applicant acknowledges that it is under a continuing obligation to comply with the terms and conditions of the grant agreement issued for its project with FTA. The Applicant understands that Federal laws, regulations, policies, and administrative practices might be modified from time to time and affect the implementation of the project. The Applicant agrees that the most recent Federal requirements will apply to the project, unless FTA issues a written determination otherwise. The Applicant must submit the Certifications and Assurances before receiving a grant if it does not have current certifications on file.

C. Reporting

Post-award reporting requirements include submission of Financial Status Reports and Milestone reports in TEAM on a quarterly basis for all projects. Documentation is required for payment. In addition, grants which include innovative technologies may be required to report on the performance of these technologies.

VII. Agency Contacts

Contact the appropriate FTA Regional Administrator (see Appendix) for proposal-specific information and issues. For general program information, contact Henrika Buchanan-Smith or Kimberly Sledge, Office of Transit Programs, (202) 366-2053, e-mail: henrika.buchanan-smith@dot.gov; kimberly.sledge@dot.gov. A TDD is available at 1-800-877-8339 (TDD/FIRS).

Issued in Washington, DC, this 3rd day of December 2009.
Peter M. Rogoff,
Administrator.

Appendix A—FTA Regional and Metropolitan Offices
Richard H. Doyle Regional Administrator Region 1—Boston Kendall Square 55 Broadway, Suite 920 Cambridge, MA 02142-1093 Tel. 617 494-2055 | Robert C. Patrick Regional Administrator Region 6—Ft. Worth 819 Taylor Street, Room 8A36 Ft. Worth, TX 76102 Tel. 817 978-0550
States served: Connecticut, Maine, Massachusetts, New Hampshire, Rhode Island, and Vermont. | States served: Arkansas, Louisiana, Oklahoma, New Mexico and Texas.
Brigid Hynes-Cherin Regional Administrator Region 2—New York One Bowling Green, Room 429 New York, NY 10004-1415 Tel. No. 212 668-2170 | Mokhtee Ahmad Regional Administrator Region 7—Kansas City, MO 901 Locust Street, Room 404 Kansas City, MO 64106 Tel. 816 329-3920
States served: New Jersey, New York. | States served: Iowa, Kansas, Missouri, and Nebraska.
Letitia Thompson Regional Administrator Region 3—Philadelphia 1760 Market Street, Suite 500 Philadelphia, PA 19103-4124 Tel. 215 656-7100 | Terry Rosapep Regional Administrator Region 8—Denver 12300 West Dakota Ave., Suite 310 Lakewood, CO 80228-2583 Tel. 720-963-3300
States served: Delaware, Maryland, Pennsylvania, Virginia, West Virginia, and District of Columbia. | States served: Colorado, Montana, North Dakota, South Dakota, Utah, and Wyoming.
Yvette Taylor Regional Administrator Region 4—Atlanta 230 Peachtree Street, NW Suite 800 Atlanta, GA 30303 Tel. 404 562-3500 | Leslie T. Rogers Regional Administrator Region 9—San Francisco 201 Mission Street, Suite 1650 San Francisco, CA 94105-1926 Tel. 415 744-3133
States served: Alabama, Florida, Georgia, Kentucky, Mississippi, North Carolina, Puerto Rico, South Carolina, Tennessee, and Virgin Islands. | States served: American Samoa, Arizona, California, Guam, Hawaii, Nevada, and the Northern Mariana Islands.
Marisol Simon Regional Administrator Region 5—Chicago 200 West Adams Street, Suite 320 Chicago, IL 60606 Tel. 312 353-2789 | Rick Krochalis Regional Administrator Region 10—Seattle Jackson Federal Building 915 Second Avenue, Suite 3142 Seattle, WA 98174-1002 Tel. 206 220-7954
States served: Illinois, Indiana, Michigan, Minnesota, Ohio, and Wisconsin. | States served: Alaska, Idaho, Oregon, and Washington.
New York Metropolitan Office Region 2—New York One Bowling Green, Room 428 New York, NY 10004-1415 Tel. 212-668-2202 | Chicago Metropolitan Office Region 5—Chicago 200 West Adams Street, Suite 320 Chicago, IL 60606 Tel. 312-353-2789
Philadelphia Metropolitan Office Region 3—Philadelphia 1760 Market Street, Suite 500 Philadelphia, PA 19103-4124 Tel. 215-656-7070 | Los Angeles Metropolitan Office Region 9—Los Angeles 888 S. Figueroa Street, Suite 1850 Los Angeles, CA 90017-1850 Tel. 213-202-3952

[FR Doc. E9-29242 Filed 12-3-09; 4:15 pm]

BILLING CODE P